DEPARTMENT OF THE INTERIOR

Bureau of Land Management

[CO-01-134-1610-241A]

Colorado Canyons National Conservation Area Advisory Council Meeting

AGENCY: Bureau of Land Management, Interior.

ACTION: Notice of meeting.

SUMMARY: The initial meeting of the Colorado Canyons National Conservation Area (CCNCA) Advisory Council will begin at 3 p.m. on Thursday, February 14, 2002, at White Hall, 300 North 6th Street, Grand Junction, Colorado. The CCNCA was established on October 24, 2000 when the Colorado Canyons National Conservation Area and Black Ridge Wilderness Act of 2000 (the Act) was signed by the President. The Act required that the CCNCA Advisory Council be established to provide advice in the preparation and implementation of the CCNCA management plan, which must be completed by October, 2003.

DATES: The meeting will be held on February 14, 2002.

ADDRESSES: For further information or to provide written comments, please contact Greg Gnesios, Bureau of Land Management (BLM), 2815 H Road, Grand Junction, Colorado 81506; Telephone (970) 244-3049; e-mail Gregory_Gnesios@co.blm.gov.

SUPPLEMENTARY INFORMATION: The CCNCA Advisory Council will meet on Thursday, February 14, 2002, at White Hall, 300 N. 6th Street, Grand Junction, Colorado beginning at 3 p.m. The agenda topics for this meeting are:

(1) The election of council officials

(2) Discussion of rules of engagement

(3) Definition of roles and responsibilities

(4) Discussion of planning issues related to the preparation of the CCNCA management plan

(5) Discussion on previous planning efforts in the CCNCA area

(6) Plan for Advisory Council tour of the CCNCA and future council meetings

(7) Public comment period

(8) Agenda for next meeting

CCNCA Advisory Council meetings will be held monthly on the second Thursday of each month at the same time and location. The dates for these meetings are March 14, 2002; April 11, 2002; May 9, 2002; June 13, 2002; July 11, 2002; August 8, 2002; September 12, 2002; October 10, 2002; November 14, 2002 and December 12, 2002.

Topics of discussion for future meetings will include travel management, recreation, land health assessments, fire management, mining claims, use authorizations, rights-of-way, grazing, natural resource management, wilderness stewardship, the Black Ridge communication site, education, cultural resources, wildlife, partnerships, interpretation, adaptive management, socioeconomics, and other issues as appropriate.

All meetings will be open to the public and will include a time set aside for public comment. Interested persons may make oral statements at the meetings or submit written statements at any meeting. Per-person time limits for oral statements may be set to allow all interested persons an opportunity to speak.

Summary minutes of all Council meetings will be maintained at the Bureau of Land Management Office in Grand Junction, Colorado. They are available for public inspection and reproduction during regular business hours within thirty (30) days following the meeting. In addition, minutes and other information concerning the CCNCA Advisory Council, can be obtained from the CCNCA web site at: http://www.co.blm.gov/gjra/ccnca/ccncahome.htm., which will be updated following each Advisory Council meeting.

Dated: December 20, 2001.
Greg Gnesios,
Colorado Canyons National Conservation Area Manager.

[FR Doc. 02-1942 Filed 1-25-02; 8:45 am]

BILLING CODE 4310-JB-P